DEPARTMENT OF AGRICULTURE

Animal and Plant Health Inspection Service

[Docket No. APHIS-2010-0125]

Secretary's Advisory Committee on Animal Health; Meeting

AGENCY: Animal and Plant Health Inspection Service, USDA.

ACTION: Notice of public meeting.

SUMMARY: This is a notice to inform the public of the first meeting of the Secretary's Advisory Committee on Animal Health. The meeting is being organized by the Animal and Plant Health Inspection Service.

DATES: The meeting will be held January 20 and 21, 2011, from 9 a.m. to 5 p.m. each day.

ADDRESSES: The meeting will be held in the Jamie L. Whitten Building, 1400 Independence Avenue, SW., Washington, DC 20250, in rooms 104-A and 107-A.

FOR FURTHER INFORMATION CONTACT: Mr. Michael R. Doerrer, Chief Operating Officer, Veterinary Services, APHIS, USDA, 4700 River Road Unit 37, Riverdale, MD 20737; (301) 734-5034; e-mail: SACAH.Management@aphis.usda.gov.

SUPPLEMENTARY INFORMATION: The Secretary's Advisory Committee on Animal Health (the Committee) advises the Secretary of Agriculture on means to prevent, conduct surveillance on, monitor, control, or eradicate animal diseases of national importance. In doing so, the Committee will consider public health, conservation of natural resources, and the stability of livestock economies.

Tentative topics for discussion at the upcoming meeting include:

• Animal disease traceability.

• Aquaculture and animal health.

• Emergency response and management.

• Trade and emerging global animal health issues.

• The U.S. Department of Agriculture's role in public health initiatives.

• National disease management programs.

• Veterinary Services reorganization efforts.

Additional details on the agenda and meeting can be found on the Committee's Web site at http://www.aphis.usda.gov/animal_health/acah/.

The meeting will be open to the public and attendees should plan to arrive between 8 a.m. and 9 a.m. Picture identification is required to gain access to the Whitten Building. The Animal and Plant Health Inspection Service (APHIS), which is organizing the meeting, asks that those planning to attend the meeting let APHIS know by sending an email through an access portal on the Committee's Web site or directly to SACAH.Management@aphis.usda.gov. Please provide your name and organizational affiliation (if any), state which meeting date or dates you plan to attend, and indicate whether you wish to present an oral statement during the meeting.

Attendees will have the opportunity to present oral statements or questions on meeting topics at specific times during the meeting. Written statements on meeting topics may also be filed at the meeting. Additionally, statements may be filed with the Committee before or after the meeting by sending them via email to SACAH.Management@aphis.usda.gov.

This notice of meeting is given pursuant to section 10 of the Federal Advisory Committee Act (5 U.S.C. App. 2).

Done in Washington, DC, December 28, 2010.
Kevin Shea,
Acting Administrator, Animal and Plant Health Inspection Service.

[FR Doc. 2010-33206 Filed 1-3-11; 8:45 am]

BILLING CODE 3410-34-P